DEPARTMENT OF ENERGY

Federal Energy Regulatory Commission

Combined Notice of Filings #1

July 15, 2010.

Take notice that the Commission received the following electric corporate filings:

Docket Numbers: EC05-29-002.

Applicants: PNM Resources, Inc., Public Service Company of New Mexico.

Description: Public Service Company of New Mexico submits filing seeking Commission approval to modify the order issued by the Commission to remove the Markey Monitor Plan with an Independent Market Monitor etc.

Filed Date: 07/12/2010.

Accession Number: 20100712-0209.

Comment Date: 5 p.m. e.t. on Monday, August 2, 2010.

Take notice that the Commission received the following electric rate filings:

Docket Numbers: ER99-3911-007.

Applicants: Northbrook New York, LLC.

Description: Northbrook New York, LLC submits Sub Third Revised Sheet No. 1 et al. to FERC Electric Tariff, First Revised Volume No. 1.

Filed Date: 07/13/2010.

Accession Number: 20100713-0016.

Comment Date: 5 p.m. e.t. on Tuesday, August 3, 2010.

Docket Numbers: ER00-2706-008; ER01-2760-007; ER01-390-008; ER08-1255-002; ER99-2769-011; ER99-3450-010.

Applicants: Chandler Wind Partners, LLC, Foote Creek II, LLC, Foote Creek IV, LLC, Ridge Crest Wind Partners, LLC, Oak Creek Wind Power, LLC, Foote Creek III, LLC.

Description: Supplement to Notice of Change in Status of Chandler Wind Partners, LLC, et al.

Filed Date: 06/10/2010.

Accession Number: 20100610-5093.

Comment Date: 5 p.m. e.t. on Thursday, July 22, 2010.

Docket Numbers: ER03-1330-003.

Applicants: Ebersen, Inc.

Description: Ebersen, Inc. submit Shareholders/Stakeholders.

Filed Date: 07/12/2010.

Accession Number: 20100712-0055.

Comment Date: 5 p.m. e.t. on Monday, August 2, 2010.

Docket Numbers: ER06-560-007; ER06-560-004.

Applicants: Credit Suisse Energy LLC

Description: Credit Suisse Energy LLC Supplemental Information for Notices of Non-Material Change in Status.

Filed Date: 07/15/2010

Accession Number: 20100715-5066.

Comment Date: 5 p.m. e.t. on Thursday, August 5, 2010.

Docket Numbers: ER10-895-004.

Applicants: The Detroit Edison Company.

Description: Detroit Edison Company submits a request for an effective date of the delayed Notice of Cancellation.

Filed Date: 07/14/2010.

Accession Number: 20100714-0204.

Comment Date: 5 p.m. e.t. on Wednesday, August 4, 2010.

Docket Numbers: ER10-1047-001.

Applicants: Pacific Gas and Electric Company.

Description: Compliance Refund Report of Pacific Gas and Electric Company Service Agreement for Wholesale Distribution Service and Interconnection Agreement with Monterey Regional Waste Management District.

Filed Date: 07/07/2010

Accession Number: 20100707-5128.

Comment Date: 5 p.m. e.t. on Wednesday, July 28, 2010.

Docket Numbers: ER10-1106-002.

Applicants: Pacific Gas and Electric Company.

Description: Pacific Gas and Electric Company submits tariff filing per 35: Compliance Filing to Revise GMC Tariff to be effective 4/28/2010.

Filed Date: 07/15/2010.

Accession Number: 20100715-5043.

Comment Date: 5 p.m. e.t. on Thursday, August 5, 2010.

Docket Numbers: ER10-1762-000.

Applicants: PJM Interconnection, LLC.

Description: PJM Interconnection LLC submits modifications to their Open Access Transmission Tariff and the Amended and Restated Operating Agreement.

Filed Date: 07/13/2010.

Accession Number: 20100714-0201.

Comment Date: 5 p.m. e.t. on Tuesday, August 3, 2010.

Docket Numbers: ER10-1732-000; ER10-1733-000.

Applicants: Midwest Independent Transmission System Operator, Inc.

Description: Midwest Independent Transmission System Operator, Inc submits partially executed Generator Interconnection Agreement with American Transmission Company, LLC etc.

Filed Date: 07/07/2010.

Accession Number: 20100708-0207.

Comment Date: 5 p.m. e.t. on Wednesday, July 28, 2010

Docket Numbers: ER10-1754-000.

Applicants: Kentucky Power Company.

Description: American Electric Power Corp on behalf of Kentucky Power Co. submits the third revised Interconnection and local delivery service agreement.

Filed Date: 07/12/2010.

Accession Number: 20100712-0210.

Comment Date: 5 p.m. e.t. on Monday, August 2, 2010.

Docket Numbers: ER10-1773-000.

Applicants: Allegheny Energy Supply Company LLC.

Description: Allegheny Energy Supply Company, LLC submits request for authorization to make wholesale power sales to its affiliate.

Filed Date: 07/14/2010.

Accession Number: 20100714-0206.

Comment Date: 5 p.m. e.t. on Wednesday, August 4, 2010.

Docket Numbers: ER10-1774-000.

Applicants: Carolina Power & Light Company.

Description: Carolina Power & Light Company submits tariff filing per 35.12: Baseline Open Access Transmission Tariff of Carolina Power and Light Co. to be effective 7/14/2010.

Filed Date: 07/14/2010.

Accession Number: 20100714-5116.

Comment Date: 5 p.m. e.t. on Wednesday, August 4, 2010.

Docket Numbers: ER10-1775-000.

Applicants: Florida Power Corporation.

Description: Florida Power Corporation submits tariff filing per 35.12: Baseline Open Access Transmission Tariff of Florida Power Corporation to be effective 7/14/2010.

Filed Date: 07/14/2010.

Accession Number: 20100714-5117.

Comment Date: 5 p.m. e.t. on Wednesday, August 4, 2010.

Docket Numbers: ER10-1776-000.

Applicants: Leaning Juniper Wind Power II LLC.

Description: Leaning Juniper Wind Power II LLC submits tariff filing per 35.12: 20100714 initial tariff to be effective 9/12/2010.

Filed Date: 07/14/2010.

Accession Number: 20100714-5118.

Comment Date: 5 p.m. e.t. on Wednesday, August 4, 2010.

Docket Numbers: ER10-1777-000.

Applicants: Sundevil Power Holdings, LLC.

Description: Sundevil Power Holdings, LLC submits tariff filing per 35.12: Initial Market Based Rates to be effective 8/16/2010.

Filed Date: 07/14/2010.

Accession Number: 20100714-5119.

Comment Date: 5 p.m. e.t. on Wednesday, August 4, 2010.

Docket Numbers: ER10-1778-000.

Applicants: EWO Marketing, Inc.

Description: EWO Marketing, Inc. submits tariff filing per 35.13(a)(2)(iii): EWOM-SRMPA Short Term CBR Agreement to be effective 7/19/2010.

Filed Date: 07/14/2010.

Accession Number: 20100714-5121.

Comment Date: 5 p.m. e.t. on Wednesday, August 4, 2010.

Docket Numbers: ER10-1779-000.

Applicants: PJM Interconnection, L.L.C.

Description: PJM Interconnection, Inc submits an executed interconnection construction service agreement with Blackstone Wind Farm II, LLC et al.

Filed Date: 07/14/2010.

Accession Number: 20100715-0201.

Comment Date: 5 p.m. e.t. on Wednesday, August 4, 2010.

Docket Numbers: ER10-1780-000.

Applicants: PJM Interconnection, LLC.

Description: PJM Interconnection, Inc submits an executed Wholesale Market Participation Agreement with Sustainable Energy Holdings, LLC et al.

Filed Date: 07/14/2010.

Accession Number: 20100715-0202.

Comment Date: 5 p.m. e.t. on Wednesday, August 4, 2010.

Docket Numbers: ER10-1781-000.

Applicants: Northern Indiana Public Service Company.

Description: Northern Indiana Public Service Company submits tariff filing per 35.12: Baseline to be effective 7/15/2010.

Filed Date: 07/15/2010.

Accession Number: 20100715-5030.

Comment Date: 5 p.m. e.t. on Thursday, August 5, 2010.

Docket Numbers: ER10-1782-000.

Applicants: Tampa Electric Company.

Description: Tampa Electric Company submits tariff filing per 35.13(a)(1): Wholesale Transmission Rate Case to be effective 7/15/2010.

Filed Date: 07/15/2010.

Accession Number: 20100715-5041.

Comment Date: 5 p.m. e.t. on Thursday, August 5, 2010.

Take notice that the Commission received the following land acquisition filings:

Docket Numbers: LA10-1-000; ER01-2233-000.

Applicants: GWF Energy LLC.

Description: GWF Energy LLC submits its Quarterly Report of Generation Site Acquisition pursuant to Order No. 697-C and 697-D.

Filed Date: 06/25/2010.

Accession Number: 20100625-5141.

Comment Date: 5 p.m. e.t. on Friday, July 16, 2010.

Any person desiring to intervene or to protest in any of the above proceedings must file in accordance with Rules 211 and 214 of the Commission's Rules of Practice and Procedure (18 CFR 385.211 and 385.214) on or before 5 p.m. e.t. on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Kimberly D. Bose,
Secretary.

[FR Doc. 2010-17884 Filed 7-21-10; 8:45 am]

BILLING CODE 6717-01-P